DEPARTMENT OF THE TREASURY

Submission for OMB Review; Comment Request

February 19, 2008.

The Department of Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 26, 2008 to be assured of consideration.

Office of Foreign Assets Control

OMB Number: 1505-0167.

Type of Review: Extension.

Title: Cuban Remittance Affidavit.

Description: The information is required of persons subject to the jurisdiction of the United States who make remittances to persons in Cuba pursuant to Section 515.570 of the Cuban Assets Controls Regulations, 31 CFR part 515. The information will be used by the Office of Foreign Assets Control of the Department of the Treasury (“OFAC”) to monitor compliance with regulations governing family and emigration remittances.

Respondents: Individuals and households.

Estimated Total Reporting Burden: 65,000 hours.

OMB Number: 1505-0198.

Type of Review: Revision.

Title: Requirement to report information about the shipment of rough diamonds.

Description: The ultimate consignee of rough diamond shipments, identified on Customs Form 7501 Entry Summary, is required to report specified information about the shipment of rough diamonds imported into the United States to the foreign exporting authority within 15 calendar days of the date that the shipment arrived at a U.S. port of entry pursuant to Section 592.301(a)(3) of the Rough Diamonds Control Regulations, 31 CFR Part 592. This collection of information is needed to monitor the integrity of international rough diamond shipments, and the information collected will be used to further the compliance, enforcement, and civil penalty programs of the Office of Foreign Assets Control of the Department of the Treasury (“OFAC”).

Respondents: Businesses or other for-profit institutions, individuals and households.

Estimated Total Reporting Burden: 1,750 hours.

Clearance Officer: Office of Foreign Assets Control, (202) 622-2500, Department of the Treasury, 1500 Pennsylvania Avenue, NW., Annex-2nd Floor, Washington, DC 20220.

OMB Reviewer: Alexander T. Hunt (202) 395-7316, Office of Management and Budget, Room 10235, New Executive Office Building, Washington, DC 20503.

Robert Dahl,
Treasury PRA Clearance Officer.

[FR Doc. E8-3422 Filed 2-22-08; 8:45 am]

BILLING CODE 4810-25-P